DEPARTMENT OF DEFENSE

Department of the Navy

Notice of Intent To Prepare an Environmental Impact Statement/Overseas Environmental Impact Statement for Navy Atlantic Fleet Training in the Jacksonville Range Complex and Notice of Public Scoping Meetings

AGENCY: Department of the Navy, DoD.

ACTION: Notice.

SUMMARY: Pursuant to Section 102(2)(c) of the National Environmental Policy Act (NEPA) of 1969, as implemented by the Council on Environmental Quality Regulations (40 CFR Parts 1500-1508), and Executive Order 12114, the Department of the Navy (Navy) announces its intent to prepare an Environmental Impact Statement (EIS)/Overseas EIS to evaluate the potential environmental effects associated with naval training in the Jacksonville (JAX) Range Complex. The Navy proposes to support current and emerging training operations and research, development, testing, and evaluation (RDT&E) activities at the JAX Range Complex by: (1) Maintaining baseline operations at current levels; (2) increasing training operations from current levels as necessary to support the Fleet Readiness Training Plan (FRTP); (3) accommodating mission requirements associated with force structure changes; and (4) implementing enhanced range complex capabilities. The EIS/OEIS study area is the JAX Range Complex which consists of targets and instrumented areas, airspace, surface and subsurface operations areas (OPAREAs), and land range facilities. Together the JAX Range Complex encompasses: 27 square miles of land area; 62,596 nm² of special use airspace (SUA); and 50,090 nm² of sea space. The scope of actions to be analyzed in this EIS/OEIS includes current and proposed future Navy training, and RDT&E activities, within Navy-controlled operating areas, airspace, and ranges. It also includes proposed Navy-funded range capabilities enhancements, including infrastructure improvements that support range complex training and RDT&E activities. Training activities that involve the use of active sonar are conducted in the JAX Range Complex; however, those potential effects are being analyzed in detail in a separate document, the Atlantic Fleet Active Sonar Training EIS/OEIS. This separate sonar EIS/OEIS addresses active sonar use as a whole by the Atlantic Fleet in the eastern Atlantic Ocean (including waters that are part of the JAX Range Complex), and in the Gulf of Mexico. The results of this sonar EIS/OEIS will be incorporated into the JAX Range Complex EIS/OEIS to account for active sonar effects that could occur within the geographic area of the JAX Range Complex.

Dates and Addresses: Public scoping meetings will be held to receive oral and written comments on environmental concerns that should be addressed in the EIS/OEIS in the following cities: Charleston, South Carolina; Beaufort, South Carolina; Savannah, Georgia; and Jacksonville, Florida. Public scoping open houses will be held at the following dates, times, and locations: February 20, 2007, from 5 p.m. to 8 p.m. at the Embassy Suites in Charleston, SC; February 21, 2007, from 5 p.m. to 8 p.m. at the U.S. Army National Guard Armory in Beaufort, SC; February 22, 2007 from 5 p.m. to 8 p.m. at the Coastal Georgia Center in Savannah, GA; and February 23, 2007 from 5 p.m. to 8 p.m. at The Sea Turtle Inn, Atlantic Beach in Jacksonville, FL.

FOR FURTHER INFORMATION CONTACT: John Conway, Naval Facilities Engineering Command Southeast, 904-542-6159.

SUPPLEMENTARY INFORMATION: The Navy's mission is to maintain, train, and equip combat-ready naval forces capable of winning wars, deterring aggression, and maintaining freedom of the seas. For that reason, 10 U.S.C. 5062 directs the Chief of Naval Operations to train all naval forces for combat. The Chief of Naval Operations meets that direction, in part, by conducting at-sea training exercises and ensuring naval forces have access to ranges, OPAREAs, and airspace where they can develop and maintain skills for wartime missions and conduct RDT&E of naval weapons systems. As such, Navy ranges, OPAREAs, and airspace must be maintained and/or enhanced to accommodate necessary training and testing activities in support of national security objectives.

The purpose of the proposed action is to: Achieve and maintain Fleet readiness using the JAX Range Complex to support current, emerging, and future training operations and RDT&E operations; expand warfare missions; and upgrade/modernize existing range capabilities to enhance and sustain Navy training and testing.

The need for the proposed action is to provide combat capable forces ready to deploy worldwide in accordance with 10 U.S.C. 5062. Specifically, maintain current levels of military readiness by training in the JAX Range Complex; accommodate future increases in operational training tempo in the JAX Range Complex and support the rapid deployment of naval units or strike groups; achieve and sustain readiness in ships and squadrons so that the Navy can quickly deploy significant combat power to multiple areas around the world at the same time in the event of a national crisis or contingency operation and consistent with the FRTP; support the testing and training needed for new vessels, aircraft, and weapons systems; and maintain the long-term viability of the JAX Range Complex while protecting human health and the environment.

Three alternatives will be evaluated in the EIS/OEIS including: (1) The No Action Alternative comprised of baseline operations and support of existing range capabilities; (2) Alternative 1 comprised of the No Action Alternative plus additional operations, expanded warfare missions, accommodation of force structure changes including training resulting from the introduction of new vessels, aircraft, and weapons systems, and the implementation of enhancements to range infrastructure; and (3) Alternative 2, comprised of Alternative 1 plus additional increases in training, and implementation of enhancements that will optimize training throughput in support of future contingencies. The EIS/OEIS will evaluate the environmental effects associated with: Airspace; noise; range safety; natural land resources; water resources; air quality; biological resources, including threatened and endangered species; land use; socioeconomic resources; infrastructure; and cultural resources. The analysis will include an evaluation of direct and indirect impacts, and will account for cumulative impacts from other Navy activities in the Range Complex. No decision will be made to implement any alternative until the EIS/OEIS process is completed and a Record of Decision is signed by the Assistant Secretary of the Navy (Installations and Environment).

The Navy is initiating the scoping process to identify community concerns and local issues to be addressed in the EIS/OEIS. Federal agencies, state agencies, local agencies, and interested persons are encouraged to provide oral and/or written comments to the Navy to identify specific issues or topics of environmental concern that should be addressed in the EIS/OEIS. Written comments must be postmarked by March 13, 2007 and should be mailed to: Naval Facilities Engineering Command, Southeast, Building 135, PO Box 151, Ajax Street, Jacksonville, FL 32212-0151, Attention: Mr. John D. Conway, PG.

Dated: January 18, 2007.
M.A. Harivson,
Lieutenant Commander, Judge Advocate General's Corps, U.S. Navy, Federal Register Liaison Officer.

[FR Doc. E7-1120 Filed 1-25-07; 8:45 am]

BILLING CODE 3810-FF-P